DEPARTMENT OF THE INTERIOR

Geological Survey

[GX16EE000101000]

Agency Information Collection Activities: Request for Comments on the Doug D. Nebert NSDI Champion of the Year Award

AGENCY: U.S. Geological Survey (USGS), Interior.

ACTION: Notice of a new information collection, Doug D. Nebert NSDI Champion of the Year Award.

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: To ensure that your comments on this ICR are considered, OMB must receive them on or before January 19, 2016.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028—NEW Doug D. Nebert NSDI Champion of the Year Award'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028—NEW: Doug D. Nebert NSDI Champion of the Year Award in all correspondence.

FOR FURTHER INFORMATION CONTACT: Brigitta Urban-Mathieux, Federal Geographic Data Committee Office of the Secretariat, U.S. Geological Survey, 12201 Sunrise Valley Drive, Mail Stop 590, Reston, VA 20192 (mail); 703-648-5175 (phone); or burbanma@usgs.gov (email). You may also find information about this ICR at www.reginfo.gov.

SUPPLEMENTARY INFORMATION:

I. Abstract

Nominations for Doug D. Nebert NSDI Champion of the Year Award are accepted from the public and private sector individuals, teams, organizations, and professional societies that are from the United States of America. Nomination packages include three sections: (A) Cover Sheet, (B) Summary Statement, and (C) Supplemental Materials. The cover sheet includes professional contact information. The Summary Statement is limited to two pages and describes the nominee's achievements in the development of an outstanding, innovative, and operational tool, application, or service capability that directly supports the spatial data infrastructures. Nominations may include up to 10 pages of supplemental information such as resume, publications list, and/or letters of endorsement. The award consists of a citation and plaque, which are presented to the recipient at an appropriate public forum by the FGDC Chair. The name of the recipient is also inscribed on a permanent plaque, which are displayed by the FGDC.

The Doug D. Nebert NSDI Champion of the Year Award honors a respected colleague, technical visionary, and recognized U.S. national leader in the establishment of spatial data infrastructures that significantly enhance the understanding of our physical and cultural world. The award is sponsored by the Federal Geographic Data Committee (FGDC) and its purpose is to recognize an individual or a team representing Federal, State, Tribal, regional, and (or) local government, academia, or non-profit and professional organization that has developed an outstanding, innovative, and operational tool, application, or service capability used by multiple organizations that furthers the vision of the National Spatial Data Infrastructure (NSDI).

II. Data

OMB Control Number: 1028—NEW.

Title: Doug D. Nebert NSDI Champion of the Year Award.

Type of Request: Approval of new information collection.

Respondent Obligation: Required to obtain benefit.

Frequency of Collection: This is an annual offer.

Description of Respondents: State, local, and tribal governments; academia, and non-profit organizations.

Estimated Total Number of Annual Responses: 10.

Estimated Time per Response: We estimate that it will take 10 hour(s) per nomination to complete the award nomination process.

Estimated Annual Burden Hours: 100 hours.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number.

Comments: On September 9, 2015, we published a Federal Register notice (80 FR 54309) announcing that we would submit this ICR to OMB for approval and soliciting comments. The comment period closed on November 9, 2015. We did receive one comment from the public; however, the comment was not directly related to this project but rather a rejection of all government data collection.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask us and the OMB in your comment to withhold your personal identifying information from public review, we cannot guarantee that it will be done.

Ivan DeLoatch,
Executive Director, Federal Geographic Data Committee, Core Science Systems.

[FR Doc. 2015-31746 Filed 12-16-15; 8:45 am]

BILLING CODE 4338-11-P